DEPARTMENT OF TRANSPORTATION

Federal Aviation Administration

Twenty-First Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty-first meeting of the RTCA Special Committee 213, Enhanced Flight Vision Systems/Synthetic Vision Systems (EFVS/SVS).

DATES: The meeting will be held February 5-7, 2013 from 9:00 a.m.-5:00 p.m. on the first two days and from 9:00 a.m.-3:00 p.m. on the last day.

ADDRESSES: The meeting will be held in the Oak Ballroom of the Radisson Suite Hotel Oceanfront, 3101 North Highway A1A, Melbourne, FL, 32903, telephone (321) 773-9260.

FOR FURTHER INFORMATION CONTACT: The RTCA Secretariat, 1150 18th Street NW., Suite 910, Washington, DC 20036, or telephone at (202) 833-9339, fax at (202) 833-9434, or Web site at http://www.rtca.org. Alternately, contact Jennifer Iversen of RTCA at (202) 330-0662, email jiversen@rtca.org, Tim Etherington at (319) 295-5233, email tjetheri@rockwellcollins.com, or Patrick Krohn at (425) 602-1375, email pkrohn@uasc.com.

SUPPLEMENTARY INFORMATION: Pursuant to section 10(a)(2) of the Federal Advisory Committee Act (Pub. L. 92-463, 5 U.S.C., App.), notice is hereby given for a meeting of Special Committee 213. The agenda will include the following:

Tuesday, February 5, 2013

Plenary Discussion

• Introductions and administrative items

• Review and approve minutes from last full plenary meeting

• Review of terms of reference

• Status of DO-341A and DO-315C

• DO-315C and DO-341A review

Wednesday, February 6, 2013

Plenary Discussion

• WG-1 DO-315C review

• WG-2 DO-341A review

Thursday, February 7, 2013

Plenary Discussion

• WG-1 DO-315C review

• WG-2 DO-341A review

• Administrative items

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 10, 2013.
Richard F. Gonzalez
Management Analyst, Business Operations Group, ANG-A12, NAS Business Solutions, NextGen Office.

[FR Doc. 2013-01380 Filed 1-24-13; 8:45 am]

BILLING CODE 4910-13-P